Title 3—

The President

Proclamation 8481 of March 2, 2010

Women’s History Month, 2010

By the President of the United States of America

A Proclamation

Countless women have steered the course of our history, and their stories are ones of steadfast determination. From reaching for the ballot box to breaking barriers on athletic fields and battlefields, American women have stood resolute in the face of adversity and overcome obstacles to realize their full measure of success. Women’s History Month is an opportunity for us to recognize the contributions women have made to our Nation, and to honor those who blazed trails for women’s empowerment and equality.

Women from all walks of life have improved their communities and our Nation. Sylvia Mendez and her family stood up for her right to an education and catalyzed the desegregation of our schools. Starting as a caseworker in city government, Dr. Dorothy Height has dedicated her life to building a more just society. One of our young heroes, Caroline Moore, contributed to advances in astronomy by discovering a supernova at age 14.

When women like these reach their potential, our country as a whole prospers. That is the duty of our Government—not to guarantee success, but to ensure all Americans can achieve it. My Administration is working to fulfill this promise with initiatives like the White House Council on Women and Girls, which promotes the importance of taking women and girls into account in Federal policies and programs. This council is committed to ensuring our Government does all it can to give our daughters the chance to achieve their dreams.

As we move forward, we must correct persisting inequalities. Women comprise over 50 percent of our population but hold fewer than 17 percent of our congressional seats. More than half our college students are female, yet when they graduate, their male classmates still receive higher pay on average for the same work. Women also hold disproportionately fewer science and engineering jobs. That is why my Administration launched our Educate to Innovate campaign, which will inspire young people from all backgrounds to drive America to the forefront of science, technology, engineering, and math. By increasing women’s participation in these fields, we will foster a new generation of innovators to follow in the footsteps of the three American women selected as 2009 Nobel Laureates.

Our Nation’s commitment to women’s rights must not end at our own borders, and my Administration is making global women’s empowerment a core pillar of our foreign policy. My Administration created the first Office for Global Women’s Issues and appointed an Ambassador at Large to head it. We are working with the United Nations and other international institutions to support women’s equality and to curtail violence against women and girls, especially in situations of war and conflict. We are partnering internationally to improve women’s welfare through targeted investments in agriculture, nutrition, and health, as well as programs that empower women to contribute to economic and social progress in their communities. And we are following through on the commitments I made in Cairo to promote access to education, improve literacy, and expand employment opportunities for women and girls.

This month, let us carry forth the legacy of our mothers and grandmothers. As we honor the women who have shaped our Nation, we must remember that we are tasked with writing the next chapter of women’s history. Only if we teach our daughters that no obstacle is too great for them, that no ceiling can block their ascent, will we inspire them to reach for their highest aspirations and achieve true equality.

NOW, THEREFORE, I, BARACK OBAMA, President of the United States of America, by virtue of the authority vested in me by the Constitution and the laws of the United States, do hereby proclaim March 2010 as Women’s History Month. I call upon all our citizens to observe this month with appropriate programs, ceremonies, and activities that honor the history, accomplishments, and contributions of American women.

IN WITNESS WHEREOF, I have hereunto set my hand this second day of March, in the year of our Lord two thousand ten, and of the Independence of the United States of America the two hundred and thirty-fourth.

[FR Doc. 2010-5108

Filed 3-8-10; 8:45 am]

Billing code 3195-W0-P